DEPARTMENT OF THE INTERIOR

Fish and Wildlife Service

Availability of Proposed Safe Harbor Agreement for the Pueblo of Santa Ana, Sandoval County, New Mexico

AGENCY: Fish and Wildlife Service, Interior.

ACTION: Notice of availability, receipt of application.

SUMMARY: The Pueblo of Santa Ana (Applicant), Sandoval County, New Mexico, has applied to the U.S. Fish and Wildlife Service (Service) for an enhancement for survival permit pursuant to section 10(a)(1)(A) of the Endangered Species Act (Act). The Applicant has been assigned permit number TE-049290-0. The permit request is for a period of 25 years. The permit application includes a proposed Safe Harbor Agreement (SHA) for the endangered Rio Grande silvery minnow (Hybognathus amarus), the endangered southwestern willow flycatcher (Empidonax traillii extimus), and the threatened bald eagle (Haliaeetus leucocephalus).

Based upon guidance in the Service's June 17, 1999, Final Safe Harbor Policy, if a SHA and associated permit are not expected to individually or cumulatively have a significant impact on the quality of the human environment or other natural resources, the Agreement/permit may be categorically excluded from undergoing National Environmental Policy Act review. The Service has made a preliminary determination that this proposed action is eligible for categorical exclusion and this notice is provided pursuant to Section 10(c) of the Act and National Environmental Policy Act regulations (40 CFR 1506.6). The Service explains the basis for this preliminary determination in an Environmental Action Statement, which is also available for public review.

We, the Service, announce the opening of a 30-day comment period and request comments from the public on the Applicant's enhancement of survival permit application, the accompanying proposed SHA, and the environmental action statement. All comments received will become part of the administrative record and may be released to the public.

DATES: Written comments on the application, proposed SHA, or environmental action statement should be received on or before 30 days from date of publication in the Federal Register.

ADDRESSES: Comments should be addressed to Field Supervisor, New Mexico Ecological Services Field Office, 2105 Osuna Road, Albuquerque, New Mexico 87113 (505/346-2525). Please refer to permit number TE-049290-0. You may obtain copies of the documents from the field office address above or by calling 505-346-2525.

FOR FURTHER INFORMATION CONTACT: Field Supervisor, New Mexico Ecological Services Field Office, 2105 Osuna Road, Albuquerque, New Mexico 87113; telephone: (505) 346-2525, facsimile (505) 346-2542.

SUPPLEMENTARY INFORMATION

Background

Under a Safe Harbor Agreement, participating property owners voluntarily undertake management activities on their property to enhance, restore, or maintain habitat benefitting species listed under the Act. Safe Harbor Agreements encourage private and other non-Federal property owners to implement conservation efforts for listed species by assuring property owners they will not be subjected to increased property use restrictions if their efforts attract listed species to their property or increase the numbers or distribution of listed species already on their property. Application requirements and issuance criteria for enhancement of survival permits through Safe Harbor Agreements are found in 50 CFR 17.22 and 17.32.

The proposed SHA would cover the natural resource programs of Santa Ana Pueblo, Sandoval County, New Mexico, including: ecosystem restoration, range/wildlife, and water resources. The Applicant's ecosystem restoration program proposes to restore riparian, wetland, and riverine habitat along the Rio Grande and the Rio Jemez within the boundaries of the Pueblo. Restoration activities include replacing non-native plant species and restoring native wildlife habitat. The range/wildlife program proposes to improve the health of rangeland on Santa Ana Pueblo by continuing to exclude livestock from some riparian areas, conducting fish and wildlife surveys, and developing fire management plans. Activities conducted under the water resources program propose to develop water quality standards, water rights establishment, municipal wellhead protection, and planning and implementing projects through the U.S. Environmental Protection Agency's section 319 program.

The Applicant is proposing to conduct ecological restoration projects along the Rio Grande and Rio Jemez corridors. We anticipate this proposed SHA will result in the following benefits: (1) Construction of two additional gradient restoration facilities, which are sloping rock structures that provide river channel stabilization while maintaining fish passage; (2) prevention of further channel degradation within Santa Ana Pueblo by creating river reaches with low velocity flow; (3) replacement non-native vegetation with native willow (Salix sp.) and cottonwood (Populus spp.); (4) re-engineering of the river channel and lower adjacent river bars to widen the channel and encourage overbank flooding; (5) creation of backwater habitat, including a healthy riparian zone; (6) continuation of livestock exclusions from various riparian areas; and (7) encouragement of recruitment of native riparian habitat, including the regeneration of mature cottonwood stands. The conservation provided by this proposed 25-year SHA is intended to improve habitat conditions by maintaining and enhancing habitat, reducing the likelihood that the river channel will become narrower and deeper, increasing the opportunities for overbank flooding and a higher water table.

Consistent with the Safe Harbor Agreement policy and implementing regulations, we propose to issue a permit to the Applicant authorizing them to incidentally take these endangered and threatened species, which occur on the enrolled lands, as a result of lawful activities on enrolled lands, so long as baseline conditions are maintained and terms of the Agreement are implemented. Future activities of the Applicant could result in a return to the baseline condition.

We provide this notice pursuant to section 10(c) of the Act and pursuant to implementing regulations for NEPA (40 CFR 1506.6). We will evaluate the proposed SHA, associated documents, and comments submitted thereon to determine whether the requirements of section 10(a) of the Act and NEPA regulations have been met. If we determine that the requirements have been met, we will sign the SHA and issue an enhancement of survival permit under section 10(a)(1)(A) of the Act to Santa Ana Pueblo in accordance with the terms of the Agreement and specific terms and conditions of the authorizing permit. We will not make our final decision until after the end of the 30-day comment period and will fully consider all comments received.

Susan MacMullin,
Acting Regional Director, Region 2.

[FR Doc. 03-9979 Filed 4-22-03; 8:45 am]

BILLING CODE 4310-55-P